DEPARTMENT OF COMMERCE

International Trade Administration

[A-533-940, A-851-806]

Certain Freight Rail Couplers and Parts Thereof From the Czech Republic and India: Initiation of Less-Than-Fair-Value Investigations

AGENCY: Enforcement and Compliance, International Trade Administration, Department of Commerce.

DATES: Applicable August 12, 2025.

FOR FURTHER INFORMATION CONTACT: Sofia Pedrelli and Andrew Hart (the Czech Republic) at (202) 482-4310 and (202) 482-1058, respectively, and Colin Thrasher and Eliza DeLong (India) at (202) 482-3004 and (202) 482-3878, respectively, AD/CVD Operations, Enforcement and Compliance, International Trade Administration, U.S. Department of Commerce, 1401 Constitution Avenue NW, Washington, DC 20230.

SUPPLEMENTARY INFORMATION:

The Petitions

On July 23, 2025, the U.S. Department of Commerce (Commerce) received antidumping duty (AD) petitions concerning imports of certain freight rail couplers and parts thereof (freight rail couplers) from the Czech Republic and India filed in proper form on behalf of the Coalition of Freight Coupler Producers (the petitioner).¹ The AD Petitions were accompanied by a countervailing duty (CVD) petition concerning imports of freight rail couplers from India.²

¹ See Petitioner's Letter, “Petitions for the Imposition of Antidumping and Countervailing Duty Orders,” dated July 23, 2025 (Petitions). The members of the Coalition of Freight Coupler Producers are McConway and Torley, LLC (McConway and Torley), and the United Steel, Paper and Forestry, Rubber, Manufacturing, Energy, Allied Industrial and Service Workers International Union (USW).

² Id.

Between July 28 and August 8, 2025, Commerce requested supplemental information pertaining to certain aspects of the Petitions in supplemental questionnaires.³ The petitioner responded to Commerce's supplemental questionnaires between July 30 and August 11, 2025.⁴

³ See Commerce's Letters, “Supplemental Questions,” dated July 28, 2025 (First General Issues Questionnaire); see also First Country-Specific AD Supplemental Questionnaires: Czech Republic Supplemental and India Supplemental, dated July 28, 2025; “Supplemental Questions,” dated August 4, 2025 (Second General Issues Questionnaire); Second Country-Specific AD Supplemental Questionnaires: Czech Republic Supplemental and India Supplemental, dated August 4, 2025; and “Supplemental Questions,” dated August 8, 2025 (August 8, 2025, Supplemental Questionnaire).

⁴ See Petitioner's Letters, “Response to Supplemental Questions Regarding Volume I of the Petition,” dated July 30, 2025 (First General Issues Supplement); see also First Country-Specific AD Supplemental Responses: Czech Republic AD Supplement and India AD Supplement, dated July 31, 2025; “Response to Second Supplemental Questions Regarding Volume I of the Petition,” dated August 6, 2025 (Second General Issues Supplement); Second Country-Specific Second AD Supplemental Responses: Second Czech Republic AD Supplement, dated August 6, 2025, and Second India AD Supplement, dated August 7, 2025; and “Response to Second Supplemental Questions Regarding Volume IV of the Petition,” dated August 11, 2025 (August 11, 2025, Supplement).

In accordance with section 732(b) of the Tariff Act of 1930, as amended (the Act), the petitioner alleges that imports of freight rail couplers from the Czech Republic and India are being, or are likely to be, sold in the United States at less than fair value (LTFV) within the meaning of section 731 of the Act, and that imports of such products are materially injuring, or threatening material injury to, the freight rail couplers industry in the United States. Consistent with section 732(b)(1) of the Act, the Petitions were accompanied by information reasonably available to the petitioner supporting its allegations.

Commerce finds that the petitioner filed the Petitions on behalf of the domestic industry, because the petitioner is an interested party, as defined in section 771(9)(F) of the Act.⁵ Commerce also finds that the petitioner demonstrated sufficient industry support for the initiation of the requested LTFV investigations.⁶

⁵ The members of the Coalition (McConway and Torley and the USW) are interested parties as defined under sections 771(9)(C) and (D) of the Act, respectively.

⁶ See section on “Determination of Industry Support for the Petitions,” infra.

Periods of Investigation

Because the Petitions were filed on July 23, 2025, pursuant to 19 CFR 351.204(b)(1), the period of investigation (POI) for the Czech Republic and India LTFV investigations is July 1, 2024, through June 30, 2025.

Scope of the Investigations

The products covered by these investigations are freight rail couplers from the Czech Republic and India. For a full description of the scope of these investigations, see the appendix to this notice.

Comments on the Scope of the Investigations

On August 4, 2025, Commerce requested information and clarification from the petitioner regarding the proposed scope to ensure that the scope language in the Petitions is an accurate reflection of the products for which the domestic industry is seeking relief.⁷ On August 6, 2025, the petitioner provided clarifications and revised the scope.⁸ The description of the merchandise covered by these investigations, as described in the appendix to this notice, reflects these clarifications.

⁷ See Second General Issues Supplemental Questionnaire.

⁸ See Second General Issues Supplement at 1-3 and Exhibits I-Supp-1 through I-Supp-3.

As discussed in the Preamble to Commerce's regulations, we are setting aside a period for interested parties to raise issues regarding product coverage (i.e., scope).⁹ Commerce will consider all scope comments received from interested parties and, if necessary, will consult with interested parties prior to the issuance of the preliminary determinations. If scope comments include factual information,¹⁰ all such factual information should be limited to public information. Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on September 2, 2025, which is the next business day after 20 calendar days from the signature date of this notice.¹¹ Any rebuttal comments, which may include factual information, and should also be limited to public information, must be filed by 5:00 p.m. ET on September 12, 2025, which is 10 calendar days from the initial comment deadline.

⁹ See Antidumping Duties; Countervailing Duties, Final Rule, 62 FR 27296, 27323 (May 19, 1997) (Preamble); see also 19 CFR 351.312.

¹⁰ See 19 CFR 351.102(b)(21) (defining “factual information”).

¹¹ The deadline for scope comments falls on September 1, 2025, which is a federal holiday. In accordance with 19 CFR 351.303(b)(1), Commerce will accept scope comments filed by 5.00 p.m. ET on September 2, 2025 (“For both electronically and manually filed documents, if the applicable due date falls on a non-business day, the Secretary will accept documents that are filed on the next business day.”).

Commerce requests that any factual information that parties consider relevant to the scope of these investigations be submitted during that period. However, if a party subsequently finds that additional factual information pertaining to the scope of the investigations may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of freight rail couplers to be reported in response to Commerce's AD questionnaires. This information will be used to identify the key physical characteristics of the subject merchandise in order to report the relevant cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe freight rail couplers, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on September 2, 2025, which is the next business day after 20 calendar days from the signature date of this notice.¹³ Any rebuttal comments must be filed by 5:00 p.m. ET on September 12, 2025, which is 10 calendar days from the initial comment deadline. All comments and submissions to Commerce must be filed electronically using ACCESS, as explained above, on the record of each of the LTFV investigations.

¹³ The deadline for comments on product characteristics falls on September 1, 2025, which is a federal holiday. In accordance with 19 CFR 351.303(b)(1), Commerce will accept scope comments filed by 5.00 p.m. ET on September 2, 2025 (“For both electronically and manually filed documents, if the applicable due date falls on a non-business day, the Secretary will accept documents that are filed on the next business day.”).

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁶ Based on our analysis of the information submitted on the record, we have determined that freight rail couplers, as defined in the scope, constitute a single domestic like product, and we have analyzed industry support in terms of that domestic like product.¹⁷

¹⁶ For a discussion of the domestic like product analysis as applied to these cases and information regarding industry support, see Checklists, “Antidumping Duty Investigation Initiation Checklists: Certain Freight Rail Couplers and Parts Thereof from the Czech Republic and India,” dated concurrently with, and hereby adopted by, this notice (Country-Specific AD Initiation Checklists), at Attachment II, Analysis of Industry Support for the Antidumping and Countervailing Duty Petitions Covering Certain Freight Rail Couplers and Parts Thereof from the Czech Republic and India (Attachment II). These checklists are on file electronically via ACCESS.

¹⁷ See Attachment II of the Country-Specific AD Initiation Checklists.

In determining whether the petitioner has standing under section 732(c)(4)(A) of the Act, we considered the industry support data contained in the Petitions with reference to the domestic like product as defined in the “Scope of the Investigations,” in the appendix to this notice. To establish industry support, the petitioner provided the 2024 production of the domestic like product for the U.S. producers that support the Petitions and compared this to total production of the domestic like product by the U.S. freight rail couplers industry.¹⁸ We relied on data provided by the petitioner for purposes of measuring industry support.¹⁹

¹⁸ Id.

¹⁹ For further discussion, see Attachment II of the Country-Specific AD Initiation Checklists.

Our review of the data provided in the Petitions, the First General Issues Supplement, and other information readily available to Commerce indicates that the petitioner has established industry support for the Petitions.²⁰ First, the Petitions established support from domestic producers (or workers) accounting for more than 50 percent of the total production of the domestic like product and, as such, Commerce is not required to take further action in order to evaluate industry support (e.g., polling).²¹ Second, the domestic producers (or workers) have met the statutory criteria for industry support under section 732(c)(4)(A)(i) of the Act because the domestic producers (or workers) who support the Petitions account for at least 25 percent of the total production of the domestic like product.²² Finally, the domestic producers (or workers) have met the statutory criteria for industry support under section 732(c)(4)(A)(ii) of the Act because the domestic producers (or workers) who support the Petitions account for more than 50 percent of the production of the domestic like product produced by that portion of the industry expressing support for, or opposition to, the Petitions.²³ Accordingly, Commerce determines that the Petitions were filed on behalf of the domestic industry within the meaning of section 732(b)(1) of the Act.²⁴

²⁰ Id.

²¹ Id.; see also section 732(c)(4)(D) of the Act.

²² See Attachment II of the Country-Specific AD Initiation Checklists.

²³ Id.

²⁴ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁵

²⁵ For further discussion, see Czech Republic and India AD Initiation Checklists at Attachment III, Analysis of Allegations and Evidence of Material Injury and Causation for the Antidumping Duty Petition Covering Certain Freight Rail Couplers and Parts Thereof from the Czech Republic and India.

The petitioner contends that the industry's injured condition is illustrated by the significant volume and market share of subject imports; underselling and price depression and/or suppression; negative impact on financial performance; declines in the domestic industry's production, capacity utilization, and U.S. shipments; decrease in production related workers, total hours worked, and wages; and lost sales and revenues.²⁶ We assessed the allegations and supporting evidence regarding material injury, threat of material injury, causation, cumulation, as well as negligibility, and we have determined that these allegations are properly supported by adequate evidence, and meet the statutory requirements for initiation.²⁷

²⁶ Id.

²⁷ Id.

Allegations of Sales at LTFV

The following is a description of the allegations of sales at LTFV upon which Commerce based its decision to initiate LTFV investigations of imports of freight rail couplers from the Czech Republic and India. The sources of data for the deductions and adjustments relating to U.S. price and normal value (NV) are discussed in greater detail in the Country-Specific AD Initiation Checklists.

U.S. Price

For the Czech Republic and India, the petitioner based export price (EP) on pricing information for freight rail couplers produced in each country and sold or offered for sale in the U.S. market during the POI.²⁸ The petitioner made certain adjustments to U.S. price to calculate a net ex-factory U.S price, where applicable.²⁹

²⁸ See Country-Specific AD Initiation Checklists.

²⁹ Id.

Normal Value ³⁰

³⁰ In accordance with section 773(b)(2) of the Act, for these investigations, Commerce will request information necessary to calculate the constructed value (CV) and COP to determine whether there are reasonable grounds to believe or suspect that sales of the foreign like product have been made at prices that represent less than the COP of the product.

For the Czech Republic and India, the petitioner stated that it was unable to obtain home market or third-county pricing information for freight rail couplers produced in the respective countries to use as the basis for NV.³¹ Therefore, for both countries, the petitioner calculated NV based on CV. For further discussion of CV, see the section “Normal Value Based on Constructed Value.”

³¹ See Country-Specific AD Initiation Checklists.

Normal Value Based on Constructed Value

As noted above for the Czech Republic and India, the petitioner stated that it was unable to obtain home market or third-country prices for freight rail couplers to use as a basis for NV. Therefore, for both countries, the petitioner calculated NV based on CV.³²

³² Id.

Pursuant to section 773(e) of the Act, the petitioner calculated CV as the sum of the cost of manufacturing, selling, general, and administrative (SG&A) expenses, financial expenses, and profit.³³ In calculating the cost of manufacturing, the petitioner relied on the production experience and input consumption rates for a U.S. producer of freight rail couplers, valued using publicly available information applicable to the Czech Republic and India.³⁴ For calculating SG&A expenses, financial expenses, and profit ratios, the petitioner relied on the financial statements of a producer of comparable or identical merchandise domiciled in the respective countries.³⁵

³³ Id.

³⁴ Id.

³⁵ Id.

Fair Value Comparison

Based on the data provided by the petitioner, there is reason to believe that imports of freight rail couplers from the Czech Republic and India are being, or are likely to be, sold in the United States at LTFV. Based on comparisons of EP to NV in accordance with sections 772 and 773 of the Act, the estimated dumping margins for freight rail couplers for each of the countries covered by this initiation are as follows: (1) the Czech Republic—119.96 percent; (2) India—7.86 to 71.01 percent.³⁶

³⁶ Id.

Initiation of LTFV Investigations

Based upon the examination of the Petitions and supplemental responses, we find that they meet the requirements of section 732 of the Act. Therefore, we are initiating LTFV investigations to determine whether imports of freight rail couplers from the Czech Republic and India are being, or are likely to be, sold in the United States at LTFV. In accordance with section 733(b)(1)(A) of the Act and 19 CFR 351.205(b)(1), unless postponed, we will make our preliminary determination no later than 140 days after the date of this initiation.

Respondent Selection

Czech Republic

In the Petitions, the petitioner identified one company in the Czech Republic (i.e., CKD Kutná Hora a.s. (Kutna Hora)) as a producer/exporter of freight rail couplers and provided independent third-party information as support.³⁷

³⁷ See Petitions at Volume I (page 11 and Exhibit I-11); see also First General Issues Supplement at 1.

We currently know of no additional producers/exporters of freight rail couplers from the Czech Republic. Accordingly, Commerce intends to individually examine the only known producer/exporter in the investigation from the Czech Republic (i.e., the company cited above). We invite interested parties to comment on this issue. Such comments may include factual information within the meaning of 19 CFR 351.102(b)(21). Parties wishing to comment must do so within three business days of the publication of this notice in the Federal Register. Comments must be filed electronically using ACCESS. An electronically filed document must be received successfully in its entirety via ACCESS by 5:00 p.m. ET on the specified deadline. Because we intend to examine the only known producer/exporter in the Czech Republic, if no comments are received, or if comments received further support the existence of only this one producer/exporter, we do not intend to conduct respondent selection and will proceed to issuing the initial AD questionnaires to the identified company. However, if comments are received which create a need for a respondent selection process, we intend to finalize our decision regarding respondent selection for the Czech Republic within 20 days of publication of this notice.

India

In the Petitions, the petitioner identified five companies in India as producers and/or exporters of freight rail couplers.³⁸

³⁸ See August 11, 2025, Supplement at Exhibit IV-2SUPP-5.

Following standard practice in AD investigations involving market economy countries, Commerce would normally select respondents based on U.S. Customs and Border Protection (CBP) entry data for imports under the appropriate Harmonized Tariff Schedule of the United States (HTSUS) subheading(s) listed in the “Scope of the Investigations” in the appendix. However, for these investigations, the main HTSUS subheading under which the subject merchandise entered during the POI (8607.30.1000) is a basket category under which non-subject merchandise may also enter. Therefore, for India, instead of relying on CBP entry data in selecting respondents, we intend to issue quantity and value (Q&V) questionnaires to each potential respondent for which there is complete address information on the record.

Commerce will post the Q&V questionnaires along with filing instructions on Commerce's website at https://www.trade.gov/ec-adcvd-case-announcements. Producers/exporters of freight rail couplers in India that do not receive Q&V questionnaires may still submit a response to the Q&V questionnaire and can obtain a copy of the Q&V questionnaire from Commerce's website. Responses to the Q&V questionnaire must be submitted by the relevant producers/exporters no later than 5:00 p.m. ET on August 26, 2025, which is two weeks from the signature date of this notice. All Q&V questionnaire responses must be filed electronically via ACCESS. An electronically filed document must be received successfully, in its entirety, by ACCESS no later than 5:00 p.m. ET on the deadline noted above.

Interested parties must submit applications for disclosure under administrative protective order (APO) in accordance with 19 CFR 351.305(b). Instructions for filing such applications may be found on Commerce's website at https://www.trade.gov/administrative-protective-orders.

Distribution of Copies of the Petitions

In accordance with section 732(b)(3)(A) of the Act and 19 CFR 351.202(f), a copy of the public version of the Petitions has been provided to the governments of the Czech Republic and India via ACCESS. To the extent practicable, we will attempt to provide a copy of the public version of the Petitions to each exporter named in the Petitions, as provided under 19 CFR 351.203(c)(2).

ITC Notification

Commerce will notify the ITC of our initiation, as required by section 732(d) of the Act.

Preliminary Determinations by the ITC

The ITC will preliminarily determine, within 45 days after the date on which the Petitions were filed, whether there is a reasonable indication that imports of freight rail couplers from the Czech Republic and/or India are materially injuring, or threatening material injury to, a U.S. industry.³⁹ A negative ITC determination for any country will result in the investigation being terminated with respect to that country.⁴⁰ Otherwise, these LTFV investigations will proceed according to statutory and regulatory time limits.

³⁹ See section 733(a) of the Act.

⁴⁰ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴¹ and, if the information is submitted to rebut, clarify, or correct factual information already on the record, to provide an explanation identifying the information already on the record that the factual information seeks to rebut, clarify, or correct.⁴² Time limits for the submission of factual information are addressed in 19 CFR 351.301, which provides specific time limits based on the type of factual information being submitted. Interested parties should review the regulations prior to submitting factual information in these investigations.

⁴¹ See 19 CFR 351.301(b).

⁴² See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b), and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴³ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴⁴

⁴³ See 19 CFR 351.301; see also Extension of Time Limits; Final Rule, 78 FR 57790 (September 20, 2013) (Time Limits Final Rule), available at https://www.gpo.gov/fdsys/pkg/FR-2013-09-20/html/2013-22853.htm.

⁴⁴ See 19 CFR 351.302; see also, e.g., Time Limits Final Rule.

Certification Requirements

Any party submitting factual information in an AD or countervailing duty proceeding must certify to the accuracy and completeness of that information.⁴⁵ Parties must use the certification formats provided in 19 CFR 351.303(g).⁴⁶ Commerce intends to reject factual submissions if the submitting party does not comply with the applicable certification requirements.

⁴⁵ See section 782(b) of the Act.

⁴⁶ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in these investigations should ensure that they meet the requirements of 19 CFR 351.103(d) (e.g., by filing the required letter of appearance). Note that Commerce has amended certain of its requirements pertaining to the service of documents in 19 CFR 351.303(f).⁴⁷

⁴⁷ See Administrative Protective Order, Service, and Other Procedures in Antidumping and Countervailing Duty Proceedings, 88 FR 67069 (September 29, 2023).

This notice is issued and published pursuant to sections 732(c)(2) and 777(i) of the Act, and 19 CFR 351.203(c).

Dated: August 12, 2025.
Christopher Abbott,
Deputy Assistant Secretary for Policy and Negotiations, performing the non-exclusive functions and duties of the Assistant Secretary for Enforcement and Compliance.

Appendix

Scope of the Investigations

The scope of these investigations covers certain freight railcar couplers (also known as “fits” or “assemblies”) and parts thereof. Freight rail couplers are composed of two main parts, namely knuckles and coupler bodies but may also include other items (e.g., coupler locks, lock lift assemblies, knuckle pins, knuckle throwers, and rotors). The parts covered by these investigations include: (1) E coupler bodies; (2) E/F coupler bodies; (3) F coupler bodies; (4) E knuckles; (5) F knuckles; as set forth by the Association of American Railroads (AAR). The freight rail coupler parts are included within the scope of the investigations when imported individually.

Subject freight rail couplers and parts are included within the scope whether finished or unfinished, whether imported individually or with other subject or nonsubject parts, whether assembled or unassembled, whether mounted or unmounted, or if joined with nonsubject merchandise, such as other nonsubject parts or a completed railcar. Finishing includes, but is not limited to, arc washing, welding, grinding, shot blasting, heat treatment, machining, and assembly of various parts. When a subject coupler or subject parts are mounted on or to other nonsubject merchandise, such as a railcar, only the coupler or subject parts are covered by the scope.

The finished products covered by the scope of these investigations meet or exceed the AAR specifications of M-211, “Foundry and Product Approval Requirements for the Manufacture of Couplers, Coupler Yokes, Knuckles, Follower Blocks, and Coupler Parts,” and/or AAR M-215 “Coupling Systems,” or other equivalent domestic or international standards (including any revisions to the standard(s)).

The country of origin for subject couplers and parts thereof, whether fully assembled, unfinished or finished, or attached to a railcar, is the country where the subject coupler parts were cast or forged. Subject merchandise includes coupler parts as defined above that have been further processed or further assembled, including those coupler parts attached to a railcar in third countries. Further processing includes, but is not limited to, arc washing, welding, grinding, shot blasting, heat treatment, painting, coating, priming, machining, and assembly of various parts. The inclusion, attachment, joining, or assembly of nonsubject parts with subject parts or couplers either in the country of manufacture of the in-scope product or in a third country does not remove the subject parts or couplers from the scope.

The couplers that are the subject of these investigations are classifiable in the Harmonized Tariff Schedule of the United States (HTSUS) statistical reporting numbers 8607.30.1010, 8607.30.1050, and 8607.30.1090. Subject merchandise attached to finished railcars may also enter under HTSUS statistical reporting numbers 7326.90.8688, 8606.10.0000, 8606.91.0000, 8606.92.0000, 8606.99.0130, or under subheading 8606.99.0160. Subject merchandise may also be imported under HTSUS statistical reporting number 7325.99.5000. These HTSUS subheadings are provided for convenience and customs purposes only; the written description of the scope of these investigations is dispositive.

[FR Doc. 2025-15633 Filed 8-15-25; 8:45 am]

BILLING CODE 3510-DS-P